DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Idaho:
Ada (FEMA Docket No.: B-1143) | Unincorporated areas of Ada County (10-10-0170P) | May 27, 2010; June 3, 2010; The Idaho Statesman | The Honorable Fred Tilman, Chairman, Ada County Board of Commissioners, 200 West Front Street, Boise, ID 83702 | September 1, 2010 | 160001
Valley (FEMA Docket No.: B-1143) | Unincorporated areas of Valley County (10-10-0010P) | April 15, 2010; April 22, 2010; The Star-News | The Honorable Jerry Winkle, Chairman, Valley County Board of Commissioners, P.O. Box 1350, Cascade, ID 83611 | August 21, 2010 | 160220
Indiana:
Hamilton (FEMA Docket No.: B-1143) | City of Noblesville (10-05-3162P) | April 15, 2010; April 22, 2010; The Indianapolis Star | The Honorable John Ditslear, Mayor, City of Noblesville, 16 South 10th Street, Suite 150, Noblesville, IN 46060 | August 20, 2010 | 180082
Tippecanoe (FEMA Docket No.: B-1143) | City of Lafayette (10-05-3321P) | May 27, 2010; June 3, 2010; Journal and Courier | The Honorable Tony Roswarski, Mayor, City of Lafayette, 20 North 6th Street, Lafayette, IN 47901 | May 18, 2010 | 180253
Iowa:
Black Hawk (FEMA Docket No.: B-1143) | City of Cedar Falls (10-07-0506P) | July 8, 2010; July 15, 2010; The Waterloo Courier | The Honorable Jon Crews, Mayor, City of Cedar Falls, 220 Clay Street, Cedar Falls, IA 50613 | November 12, 2010 | 190017
Polk (FEMA Docket No.: B-1143) | City of Des Moines (09-07-1717P) | May 27, 2010; June 3, 2010; Des Moines Register | The Honorable Franklin Cownie, Mayor, City of Des Moines, 675 Harwood Drive, Des Moines, IA 50312 | October 1, 2010 | 190227
Kansas: Johnson (FEMA Docket No.: B-1143) | City of Overland Park (09-07-1710P) | June 30, 2010; July 7, 2010; Sun Publications | The Honorable Carl Gerlach, Mayor, City of Overland Park, 8500 Santa Fe Drive, Overland Park, KS 66212 | June 17, 2010 | 200174
Maine:
Cumberland (FEMA Docket No.: B-1143) | Town of Harpswell (09-01-1532P) | July 12, 2010; July 19, 2010; The Times Record | The Honorable James S. Henderson, Chairman, Board of Selectmen, P.O. Box 39, Harpswell, ME 04079 | June 24, 2010 | 230169
York (FEMA Docket No.: B-1143) | Town of Hollis (10-01-0538P) | July 13, 2010; July 20, 2010; The Smart Shopper | Mr. Stuart B. Gannett, Sr., Chairman, Board of Selectmen, 34 Town Farm Road, P.O. Box 9, Hollis, ME 04042 | November 17, 2010 | 230150
Massachusetts: Barnstable (FEMA Docket No.: B-1143) | Town of Falmouth (09-01-1590P) | May 21, 2010; May 28, 2010; Falmouth Enterprise | Mr. Robert L. Whritenour, Jr., Town of Falmouth Manager, 59 Town Hall Square, Falmouth, MA 02540 | August 26, 2010 | 255211
Michigan:
Macomb (FEMA Docket No.: B-1143) | Township of Washington (10-05-4289P) | July 7, 2010; July 14, 2010; The Romeo Observer | Mr. Dan O'Leary, Board Supervisor, 57900 Van Dyke Road, Washington, MI 48094 | June 29, 2010 | 260447
Oakland (FEMA Docket No.: B-1143) | City of Novi (10-05-0812P) | May 6, 2010; May 13, 2010; The Novi News | The Honorable David Landry, Mayor, City of Novi, 45175 West Ten Mile Road, Novi, MI 48375 | May 24, 2010 | 260175
Missouri: Cole (FEMA Docket No.: B-1143) | City of Jefferson City (10-07-0593P) | August 19, 2010; August 26, 2010; News Tribune | The Honorable John Landwehr, Mayor, City of Jefferson City, 320 East McCarty Street, Jefferson City, MO 65101 | December 24, 2010 | 290108
Nebraska: Lancaster (FEMA Docket No.: B-1143) | City of Lincoln (10-07-0761P) | June 3, 2010; June 10, 2010; The Lincoln Journal Star | The Honorable Chris Beutler, Mayor, City of Lincoln, 555 South 10th Street, Suite 301, Lincoln, NE 68508 | October 8, 2010 | 315273
New Hampshire:
Hillsborough (FEMA Docket No.: B-1143) | Town of Pelham (09-01-1526P) | June 18, 2010; June 25, 2010; The Lowell Sun | The Honorable Douglas Viger, Chairman, Board of Selectmen, 6 Village Green, Pelham, NH 03076 | July 6, 2010 | 330100
Hillsborough (FEMA Docket No.: B-1143) | Town of Pelham (09-01-1526P) | June 21, 2010; June 28, 2010; The Pelham-Windham News | The Honorable Douglas Viger, Chairman, Board of Selectmen, 6 Village Green, Pelham, NH 03076 | July 6, 2010 | 330100
Vermont:
Windham (FEMA Docket No.: B-1143) | Town of Wilmington (10-01-0925P) | June 14, 2010; June 21, 2010; Brattleboro Reformer | The Honorable Thomas P. Consolino, Chair, Selectboard, P.O. Box 217, Wilmington, VT 05363 | June 2, 2010 | 500142
Windham (FEMA Docket No.: B-1143) | Town of Wilmington (10-01-0925P) | June 17, 2010; June 24, 2010; The Deerfield Valley News | The Honorable Thomas P. Consolino, Chair, Selectboard, P.O. Box 217, Wilmington, VT 05363 | June 2, 2010 | 500142
Virginia: Independent City of Fairfax (FEMA Docket No.: B-1143) | City of Fairfax (10-03-0412P) | June 14, 2010; June 21, 2010; The Washington Times | The Honorable Robert F. Lederer, Mayor, City of Fairfax, Fairfax City Hall, 10455 Armstrong Street, Fairfax, VA 22030 | October 19, 2010 | 515524
Wisconsin:
Dane (FEMA Docket No.: B-1143) | Village of Black Earth (10-05-1272P) | May 20, 2010; May 27, 2010; The News-Sickle-Arrow | The Honorable Patrick Troge, President, Village of Black Earth, 1525 Riverview Drive, Black Earth, WI 53515 | September 24, 2010 | 550079
Dane (FEMA Docket No.: B-1143) | Unincorporated areas of Dane County (10-05-1272P) | May 20, 2010; May 27, 2010; The Wisconsin State Journal | Ms. Kathleen Falk, County Executive, 210 Martin Luther King Jr. Boulevard, Room 116, City-County Building, Madison, WI 53703 | September 24, 2010 | 550077
Green Lake (FEMA Docket No.: B-1143) | Village of Marquette (10-05-1858P) | April 8, 2010; April 15,2010; The Berlin Journal Newspaper | Mr. Howard Sell, District 6, County Board Supervisor, N3415 Highway 72, Markesan, WI 53946 | March 29, 2010 | 550170
Jefferson (FEMA Docket No.: B-1143) | Unincorporated areas of Jefferson County (10-05-0806P) | April 29, 2010; May 6, 2010; Daily Jefferson County Union | Ms. Sharon L. Schmeling. Chairperson, Jefferson County Board, 320 South Main Street, Room 201, Jefferson, WI 53549 | September 3, 2010 | 550191
Waukesha (FEMA Docket No.: B-1143) | Unincorporated areas of Waukesha County (10-05-0806P) | April 29, 2010; May 6, 2010; Lake County Reporter & Milwaukee Journal Sentinel | Mr. Daniel P. Vrakas, County Executive, 515 West Moreland Boulevard, Room 230, Waukesha, WI 53188 | September 3, 2010 | 550476
Waukesha (FEMA Docket No.: B-1143) | Unincorporated areas of Waukesha County (10-05-0802P) | April 29, 2010, May 6, 2010, Lake County Reporter & Milwaukee Journal Sentinel | Mr. Daniel P. Vrakas, County Executive, 515 West Moreland Boulevard, Room 230, Waukesha, WI 53188 | September 3, 2010 | 550476
St. Croix (FEMA Docket No.: B-1143) | Unincorporated ares of St. Croix County (10-05-1230P) | May 27, 2010; June 3, 2010; The River Falls Journal | Mr. Daryl Standafer, Chairman, St. Croix County, 1101 Carmichael Road, Hudson, WI 54016 | October 1, 2010 | 555578
St. Croix (FEMA Docket No.: B-1143) | City of River Falls (10-05-1230P) | May 27, 2010; June 3, 2010; The River Falls Journal | The Honorable Don Richards, Mayor, City of River Falls, 106 North Wasson Lane, River Falls, WI 54022 | October 1, 2010 | 550330

(Catalog of Federal Domestic Assistance No. 97.022, “Flood Insurance.”)

Dated: April 11, 2011.
Sandra K. Knight,
Deputy Federal Insurance and Mitigation Administrator, Mitigation, Department of Homeland Security, Federal Emergency Management Agency.

[FR Doc. 2011-9558 Filed 4-19-11; 8:45 am]

BILLING CODE 9110-12-P